DEPARTMENT OF ENERGY

Federal Energy Regulatory Commission

[Docket No. RP01-274-000]

Florida Gas Transmission Company; Notice of Proposed Changes in FERC Gas Tariff

March 26, 2001.

Take notice that on March 21, 2001, Florida Gas Transmission Company (FGT) tendered for filing to become part of its FERC Gas Tariff, Third Revised Volume No. 1, the following tariff sheets, effective April 1, 2001:

Forty-Seventh Revised Sheet No. 8A.

Thirty-Ninth Revised Sheet No. 8A.01

Thirty-Ninth Revised Sheet No. 8A.02

Forty-Third Revised Sheet No. 8B

Thirty-Sixth Revised Sheet No. 8B.01

FGT states that on February 22, 2001, FGT filed in Docket No. RP01-234-000 to establish a Base Fuel Reimbursement Charge Percentage (Base FRCP) of 2.90% to become effective for the six-month Summer Period beginning April 1, 2001 reflecting FGT's actual fuel usage and unaccounted for gas during the immediately preceding Summer Period. The February 22, 2001 filing was accepted by the Commission Order dated March 19, 2001. FGT states that it is filing a flex adjustment of (0.50)% to be effective April 1, 2001, which, when combined with the Base FRCP of 2.90% results in an Effective Fuel Reimbursement Charge Percentage of 2.40%. FGT is filing this flex adjustment to reflect the lower fuel usage currently being experienced on its system.

FGT states that the tariff sheets listed above are being filed pursuant to Section 27.A.2.b of the General Terms and Conditions of FGT's Tariff, which provides for flex adjustments to the Base FRCP. Pursuant to the terms of section 27.A.2.b, a flex adjustment shall become effective without prior FERC approval provided that such flex adjustment does not exceed 0.50%, is effective at the beginning of a month, is posted on FGT's EBB at least five working days prior to the nomination deadline, and is filed no more than sixty and at least seven days before the proposed effective date. The instant filing comports with these provisions and FGT has posted notice of the flex adjustment concurrently with the instant filing.

Any person desiring to be heard or to protest said filing should file a motion to intervene or a protest with the Federal Energy Regulatory Commission, 888 First Street, NE., Washington, DC 20426, in accordance with section 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-7857 Filed 3-29-01; 8:45 am]

BILLING CODE 6717-01-M